DEPARTMENT OF HOMELAND SECURITY

Federal Emergency Management Agency

44 CFR Part 67

[Docket ID FEMA-2011-0002; Internal Agency Docket No. FEMA-B-1232]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before February 23, 2012.

ADDRESSES: The corresponding preliminary Flood Insurance Rate Map (FIRM) for the proposed BFEs for each community is available for inspection at the community's map repository. The respective addresses are listed in the table below.

You may submit comments, identified by Docket No. FEMA-B-1232, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Town of Richland, New York
New York | Town of Richland | Lake Ontario | Entire shoreline within Selkirk Shores State Park boundary | None | +249
New York | Town of Richland | South Branch Grindstone Creek (backwater effects from Lake Ontario) | Areas within Selkirk Shores State Park boundary | None | +249
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Town of Richland
Maps are available for inspection at the Town of Richland Courthouse Building, 1 Bridge Street, Pulaski, NY 13142.

Flooding source(s) | Location of referenced elevation ** | * Elevation in feet (NGVD) + Elevation in feet (NAVD) # Depth in feet above ground ‸ Elevation in meters (MSL): Existing | * Elevation in feet (NGVD) + Elevation in feet (NAVD) # Depth in feet above ground ‸ Elevation in meters (MSL): Modified | Communities affected
Middlesex County, Connecticut (All Jurisdictions)
Long Island Sound | Approximately 1,000 feet south of the intersection of U.S. Route 1 and Chapman Beach Drive | +9 | +10 | Borough of Fenwick, Town of Clinton, Town of Old Saybrook, Town of Westbrook.
| Approximately 400 feet southeast of the intersection of Hartlands Drive and Sea Lane No. 1 | +15 | +24
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Fenwick
Maps are available for inspection at the Fenwick Borough Municipal Office, 580 Maple Avenue, Old Saybrook, CT 06475.
Town of Clinton
Maps are available for inspection at the Town Hall, 54 East Main Street, Clinton, CT 06413.
Town of Old Saybrook
Maps are available for inspection at the Town Hall, 302 Main Street, Old Saybrook, CT 06475.
Town of Westbrook
Maps are available for inspection at the Town Hall, 866 Boston Post Road, Westbrook, CT 06498.
Allegheny County, Pennsylvania (All Jurisdictions)
Graesers Run | At the McLaughlin Run confluence | +986 | +989 | Borough of Bethel Park, Township of Upper St. Clair.
| Approximately 1,720 feet upstream of Brookside Boulevard | None | +1025
McLaughlin Run | Approximately 50 feet upstream of the Chartiers Creek confluence | +801 | +802 | Borough of Bethel Park, Borough of Bridgeville, Township of Upper St. Clair.
| Approximately 1,330 feet upstream of Bethel Church Road | None | +1017
Plum Creek | Approximately 220 feet upstream of Allegheny River Boulevard | +743 | +742 | Borough of Oakmont, Borough of Plum, Borough of Verona, Township of Penn Hills.
| Approximately 280 feet upstream of Saltsburg Road | None | +1018
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Bethel Park
Maps are available for inspection at the Municipal Building, 5100 West Library Avenue, Bethel Park, PA 15102.
Borough of Bridgeville
Maps are available for inspection at the Municipal Building, 425 Bower Hill Road, Bridgeville, PA 15017.
Borough of Oakmont
Maps are available for inspection at the Borough Office, 767 5th Street, Oakmont, PA 15139.
Borough of Plum
Maps are available for inspection at the Plum Borough Municipal Building, 4575 New Texas Road, Pittsburgh, PA 15239.
Borough of Verona
Maps are available for inspection at the Municipal Building, 736 East Railroad Avenue, Verona, PA 15147.
Township of Penn Hills
Maps are available for inspection at the Municipal Building, 12245 Frankstown Road, Penn Hills, PA 15234.
Township of Upper St. Clair
Maps are available for inspection at the Municipal Building, 1830 McLaughlin Run Road, Upper St. Clair, PA 15241.
Monroe County, Pennsylvania (All Jurisdictions)
Appenzell Creek | Approximately 100 feet upstream of the McMichaels Creek confluence | +485 | +486 | Township of Hamilton, Township of Jackson.
| Approximately 975 feet upstream of LR 45056 | None | +871
Aquashicola Creek | At the Carbon County Boundary (approximately 2.2 miles downstream of Lower Smith Gap Road) | None | +467 | Township of Eldred, Township of Ross.
| Approximately 1.2 miles upstream of the most upstream Upper Smith Gap Road crossing | +579 | +580
Brodhead Creek Reach 1 | At the Delaware River confluence | +321 | +323 | Township of Smithfield.
| Approximately 0.5 mile upstream of State Route 2028 | +321 | +323
Buck Hill Creek | Approximately 160 feet upstream of the Brodhead Creek Reach 2 and Middle Branch Tributary confluence | +1018 | +1017 | Township of Barrett, Township of Coolbaugh.
| Approximately 2.2 miles upstream of State Route 191 | None | +2012
Bushkill Creek | Approximately 1,100 feet downstream of Club House Drive | +471 | +470 | Township of Middle Smithfield.
| Approximately 1,130 feet upstream of State Route 402 | None | +756
Cherry Creek | At the Delaware River confluence | +321 | +323 | Borough of Delaware Water Gap, Township of Hamilton, Township of Smithfield, Township of Stroud.
| Approximately 1,250 feet upstream of Spring Mountain Lane | None | +635
Cranberry Creek at Paradise | At the upstream side of Browns Hill Road | +706 | +715 | Township of Paradise.
| Approximately 200 feet upstream of Snowbird Lane | None | +1092
Cranberry Creek at Pocono | At the Pocono Creek confluence | +794 | +796 | Township of Pocono.
| Approximately 580 feet downstream of State Route 611 | +818 | +817
Delaware River | Approximately 1.3 miles downstream of I-80 | +312 | +315 | Borough of Delaware Water Gap, Township of Middle Smithfield, Township of Smithfield.
| Approximately 14.8 miles upstream of I-80 | None | +357
Kettle Creek | At the Appenzell Creek confluence | +493 | +491 | Township of Hamilton.
| Approximately 200 feet upstream of the Appenzell Creek confluence | +493 | +492
Lehigh River Reach 2 | Approximately 1.4 miles downstream of State Route 4003 | None | +1512 | Township of Coolbaugh, Township of Tobyhanna.
| Approximately 780 feet upstream of T-303 | None | +1617
Marshalls Creek | At the Brodhead Creek Reach 1 confluence | +321 | +323 | Township of Middle Smithfield, Township of Smithfield.
| Approximately 2.6 miles upstream of Wooddale Road | None | +1144
Pocono Creek | Approximately 1,000 feet upstream of the McMichaels Creek confluence | +415 | +416 | Borough of Stroudsburg, Township of Hamilton, Township of Pocono, Township of Stroud.
| Approximately 0.8 mile upstream of Wilke Road | None | +1441
Sambo Creek | Approximately 60 feet downstream of the railroad | None | +444 | Township of Stroud.
| Approximately 1,500 feet upstream of State Route 447 (extended) | None | +451
Scot Run | At the Pocono Creek confluence | +948 | +955 | Township of Pocono.
| Approximately 450 feet downstream of State Route 611 | +954 | +955
Shawnee Creek Reach 1 | At the Delaware River confluence | +325 | +326 | Township of Smithfield.
| Approximately 100 feet upstream of River Road | +325 | +326
Swiftwater Creek | Approximately 1,580 feet downstream of State Route 314 | +1162 | +1163 | Township of Pocono, Township of Tobyhanna.
| Approximately 2.7 miles upstream of Lake Minausin Dam | None | +1736
Tributary 4 to Pocono Creek | At the Pocono Creek confluence | +865 | +861 | Township of Pocono.
| Approximately 110 feet downstream of Alger Avenue | +866 | +865
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Delaware Water Gap
Maps are available for inspection at the Municipal Building, 49 Main Street, Delaware Water Gap, PA 18327.
Borough of Stroudsburg
Maps are available for inspection at the Municipal Building, 700 Sarah Street, Stroudsburg, PA 18360.
Township of Barrett
Maps are available for inspection at the Barrett Township Hall, 993 State Route 390, Cresco, PA 18326.
Township of Coolbaugh
Maps are available for inspection at the Coolbaugh Township Municipal Center, 5550 Memorial Boulevard, Tobyhanna, PA 18466.
Township of Eldred
Maps are available for inspection at the Eldred Township Office, 490 Kunkletown Road, Kunkletown, PA 18058.
Township of Hamilton
Maps are available for inspection at the Hamilton Township Municipal Building, Fenner Avenue, Sciota, PA 18354.
Township of Jackson
Maps are available for inspection at the Jackson Township Municipal Building, 2162 State Route 715, Stroudsburg, PA 18360.
Township of Middle Smithfield
Maps are available for inspection at the Middle Smithfield Township Office, Schoonover Municipal Building, 25 Municipal Drive, East Stroudsburg, PA 18301.
Township of Paradise
Maps are available for inspection at the Paradise Township Municipal Building, 5912 Paradise Valley Road, Cresco, PA 18326.
Township of Pocono
Maps are available for inspection at the Pocono Township Municipal Building, State Route 611, Tannersville, PA 18372.
Township of Ross
Maps are available for inspection at the Ross Township Municipal Building, 258 Anchorage Road, Saylorsburg, PA 18353.
Township of Smithfield
Maps are available for inspection at the Smithfield Township Municipal Building, 1155 Red Fox Road, East Stroudsburg, PA 18301.
Township of Stroud
Maps are available for inspection at the Stroud Township Municipal Center, 1211 North 5th Street, Stroudsburg, PA 18360.
Township of Tobyhanna
Maps are available for inspection at the Tobyhanna Township Municipal Building, 105 Government Center Way, Pocono Pines, PA 18350.
Susquehanna County, Pennsylvania (All Jurisdictions)
Choconut Creek | Approximately 0.9 mile downstream of Kellum Road | +1039 | +1038 | Township of Choconut.
| Approximately 1,430 feet upstream of State Route 267 | None | +1275
DuBois Creek | At the Susquehanna River confluence | +873 | +875 | Borough of Hallstead, Township of Great Bend.
| Approximately 1.2 miles upstream of Steam Hollow Road | +1038 | +1036
Dundaff Creek | At the East Branch Tunkhannock Creek confluence | +1052 | +1047 | Township of Clifford.
| Approximately 0.6 mile upstream of State Route 106 | +1099 | +1093
East Branch Tunkhannock Creek | Approximately 0.8 mile downstream of LR 57037 | +964 | +963 | Township of Clifford, Township of Lenox.
| Approximately 1.7 miles upstream of State Route 106 | +1081 | +1083
Salt Lick Creek | At the Susquehanna River confluence | +875 | +877 | Borough of Hallstead, Borough of New Milford, Township of Great Bend, Township of New Milford.
| Approximately 0.4 mile upstream of State Route 1012 | None | +1273
Starrucca Creek | At the Susquehanna River confluence | +909 | +911 | Borough of Lanesboro.
| At North Main Street | +909 | +911
Susquehanna River | At the downstream New York state boundary | None | +872 | Borough of Great Bend, Borough of Hallstead, Borough of Lanesboro, Borough of Oakland, Borough of Susquehanna Depot, Township of Great Bend, Township of Harmony, Township of Oakland.
| At the upstream New York state boundary | +914 | +918
Trowbridge Creek | At the Susquehanna River confluence | +873 | +874 | Township of Great Bend.
| At the New York state boundary | +981 | +982
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street SW., Washington, DC 20472.
ADDRESSES
Borough of Great Bend
Maps are available for inspection at the Borough Building, 81 Elizabeth Street, Great Bend, PA 18821.
Borough of Hallstead
Maps are available for inspection at the Municipal Building, 101 Franklin Avenue, Hallstead, PA 18822.
Borough of Lanesboro
Maps are available for inspection at the Borough Hall, 418 Main Street, Lanesboro, PA 18827.
Borough of New Milford
Maps are available for inspection at the Borough Office, 948 Main Street, Suite 1, New Milford, PA 18834.
Borough of Oakland
Maps are available for inspection at the Oakland Borough Building, 15 Wilson Avenue, Susquehanna, PA 18847.
Borough of Susquehanna Depot
Maps are available for inspection at the Susquehanna Depot Borough Hall, 83 Erie Boulevard, Suite A, Susquehanna, PA 18847.
Township of Choconut
Maps are available for inspection at the Choconut Township Hall, 26499 State Route 267, Friendsville, PA 18818.
Township of Clifford
Maps are available for inspection at the Township Building, 119 Cemetery Street, Clifford, PA 18441.
Township of Great Bend
Maps are available for inspection at the Great Bend Township Building, 33253 State Route 151, Susquehanna, PA 18847.
Township of Harmony
Maps are available for inspection at the Harmony Township Office, 4197 Starrucca Creek Road, Susquehanna, PA 18847.
Township of Lenox
Maps are available for inspection at the Lenox Township Municipal Building, 2811 State Route 92, Kingsley, PA 18826.
Township of New Milford
Maps are available for inspection at the Township Building, 19730 State Route 11, New Milford, PA 18834.
Township of Oakland
Maps are available for inspection at the Oakland Township Building, 36 Riverside Drive, Susquehanna, PA 18847.

(Catalog of Federal Domestic Assistance No. 97.022, “Flood Insurance.”)

Dated: November 14, 2011.
Sandra K. Knight,
Deputy Associate Administrator for Mitigation, Department of Homeland Security, Federal Emergency Management Agency.

[FR Doc. 2011-30304 Filed 11-23-11; 8:45 am]

BILLING CODE 9110-12-P